DEPARTMENT OF ENERGY

Federal Energy Regulatory Commission

[Project No. 3253-015]

Mad River Power Associates; Notice of Intent To Prepare an Environmental Assessment

On November 3, 2020, Mad River Power Associates filed an application for a subsequent license to continue operating the existing 639-kilowatt Campton Hydroelectric Project No. 3253 (project). The project is located on the Mad River in Grafton County, New Hampshire, and occupies approximately 0.08 acre of federal land administered by the U.S. Forest Service.

In accordance with the Commission's regulations, on July 7, 2021, Commission staff issued a notice that the project was ready for environmental analysis (REA notice). Based on the information in the record, including comments filed on the REA notice, staff does not anticipate that licensing the project would constitute a major federal action significantly affecting the quality of the human environment. Therefore, staff intends to prepare an Environmental Assessment (EA) on the application to license the project.

The EA will be issued and circulated for review by all interested parties. All comments filed on the EA will be analyzed by staff and considered in the Commission's final licensing decision.

The application will be processed according to the following schedule. Revisions to the schedule may be made as appropriate.

Milestone | Target date
Commission issues EA | March 2022.¹
Comments on EA | May 2022.

Any questions regarding this notice may be directed to Amanda Gill at (202) 502-6773 or amanda.gill@ferc.gov.

¹ The Council on Environmental Quality's (CEQ) regulations under 40 CFR 1501.10(b)(1) require that EAs be completed within 1 year of the federal action agency's decision to prepare an EA. This notice establishes the Commission's intent to prepare an EA for the Campton Hydroelectric Project. Therefore, in accordance with CEQ's regulations, the EA must be issued within 1 year of the issuance date of this notice.

Dated: September 20, 2021.
Debbie-Anne A. Reese,
Deputy Secretary.

[FR Doc. 2021-20777 Filed 9-23-21; 8:45 am]

BILLING CODE 6717-01-P